DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: Ryan White HIV/AIDS Program: Client-Level Data Reporting System: New

The Client-Level Data Reporting System (CLDRS), created in 2008 by the Health Resources and Services Administration (HRSA), was designed to collect information from grantees, as well as their subcontracted service providers, funded under Parts A, B, C, D, and F of the Ryan White HIV/AIDS Treatment Modernization Act of 2006 (Ryan White HIV/AIDS Program). The Ryan White HIV/AIDS Program provides Federal HIV/AIDS Programs under Title XXVI of the Public Health Service (PHS) Act with the flexibility to respond effectively to the changing HIV epidemic, with an emphasis on providing life-saving and life-extending services for people living with HIV/AIDS, and with targeting resources to areas that have the greatest needs.

All Program Parts of the Ryan White HIV/AIDS Program specify HRSA's responsibilities in the administration of grant funds, the allocation of funds, the evaluation of programs for the population served, and the improvement of the quality of care. Accurate records of the providers receiving Ryan White HIV/AIDS Program funding, the services provided, and the clients served continue to be critical to the implementation of the legislation and thus are necessary for HRSA to fulfill its responsibilities.

Currently, the HIV/AIDS Bureau (HAB) requires that all Ryan White HIV/AIDS Program funded grantees and their contracted service providers report aggregate data annually using the Ryan White Data Report (RDR). Agencies report data related to the service provider, clients, service visits provided/clients served, client demographics, and health insurance payments. Aggregate data by definition cannot be merged and unduplicated across service providers within a given geographic area. As a result, grantees, and ultimately HAB, cannot obtain accurate counts of the number of individuals served by the Ryan White HIV/AIDS Program. Additionally, aggregate data cannot be analyzed with the detail that is required to assess quality of care or to sufficiently account for the use of Ryan White HIV/AIDS Program funds.

A well-designed and supported client level data reporting system, using a unique identifier that will be encrypted before transfer, would provide the grantee and HRSA with the requisite information to assess quality of care and unmet needs, and the ability to more accurately and efficiently report these figures to HAB and other funding agencies. These de-identified data will be able to accurately characterize the number of clients served by the Ryan White HIV/AIDS Program and the outcomes of the program services on a national scale.

The CLDRS provides data on the characteristics of Ryan White HIV/AIDS Program-funded grantees, their contracted service providers, and the clients being served with program funds. It is intended to support clinical quality management, performance measurement, service delivery, and client monitoring at both the system and client levels. The reporting system consists of two online data forms, the Grantee Information Form, the Service Provider Form and a data file containing the client-level data elements. Data will be submitted twice in the first year. The first submission will contain data for January through June, and the second submission will contain data for the entire calendar year. In subsequent years data will be collected on an annual basis.

The new legislation specifies increased grantee accountability and linking performance to budget. The CLDRS will be used to ensure compliance with the requirements of the reauthorized legislation, evaluate the progress of programs, to monitor grantee and provider performance, measure the Government Performance and Result Act (GPRA) and the Performance Assessment Rating Tool (PART) goals, and meet reporting responsibilities to the Department, Congress, and OMB.

In addition to meeting the goal of accountability to Congress, clients, advocacy groups, and the general public, information collected through the CLDRS is critical for HRSA, State and local grantees, and individual providers to assess the status of existing HIV-related service delivery systems to investigate trends in service utilization, and to identify areas of greatest need.

Discussions were conducted with volunteer grantee agencies representing Parts A, B, C, D, and Minority AIDS Initiatives, Parts A and B, as a basis for the burden estimates for the CLDRS components that follow. These burden estimates are broken out by burden to grantee respondents and burden to provider respondents, and are presented in two tables. The first table represents the estimated burden for the first year data submission. The second table represents the estimated burden for years two and three.

The number of total burden hours for the CLD Collection System is estimated differently in year 1 than in years 2 and 3. The estimate for the first year submission is based on providers that reported outpatient/ambulatory medical care, medical case management, and/or non-medical case management services in the 2007 Ryan White Data Report. These providers will be required to report client level data beginning in 2009. This first year estimate excludes providers of other direct client services (services other than those listed above) because these providers will not be required to report client level data until 2010. The estimate for years 2 and 3 include all providers that reported direct client services in the 2007 Ryan White Data Report. The mean of the total burden hours for years 1, 2, and 3 is 88,191 hours per year.

The total burden hours for the Client Report is estimated two ways. The first estimate is based on the number of providers that do not have and will not develop an electronic data system (approximately 3% of providers). The second estimate is based on the number of providers that will submit their Client Report using an electronic data system.

The estimated response burden for the first reporting period CLDRS submission is as follows:

Table 1—Estimates of Average Annualized Hour Burden to Respondents for the First Year
[Two 6-month reporting periods]
Component | Source of funding | Number of respondents | Responses per grantee | Total responses | Hours to complete/coordinate receipt of data reports | Total burden hours
Grantee Response Burden
Grantee Report | Part A | 56 | 2 | 112 | 1.27 | 142
| Part B | 57 | 2 | 114 | 6.00 | 684
| Part C | 357 | 2 | 714 | 0.39 | 278
| Part D | 90 | 2 | 180 | 0.67 | 121
| Part A MAI | 56 | 2 | 112 | 1.27 | 142
| Part B MAI | 30 | 2 | 60 | 10.00 | 600
| Subtotal |  | 646 |  |  | 1,967

Component |  | Number of respondents | Responses per provider | Total responses | Hours to develop/adjust CLD system | Total burden hours
Service Provider Response Burden
CLD Collection System |  | † 1,466 | 1 | 1,466 | 92.80 | 136,045

Component |  | Number of respondents | Responses per provider | Total responses | Hours per response | Total burden hours
Provider report |  | *† 2,253 | 2 | 4,506 | 2.35 | 10,589

Component | Providers' Electronic Data Systems Capability | Number of respondents | Responses per provider | Total responses | Hours to collect/report data per response | Total burden hours
Client Report (client-level data) | No | 45 | 2 | 90 | 106.25 | 9,563
| Yes | † 1,466 | 2 | 2,932 | 3.75 | 10,995
| Subtotal | ** 1,511 |  |  |  | 20,558
TOTAL BURDEN, YEAR 1 | 169,159
* All providers, including direct service providers and administrative support service-only providers.
** Outpatient/ambulatory medical care, medical case management, and/or nonmedical case management providers that will submit a Client Report in 2009.
† These numbers are not duplications.

Table 2—Estimates of Average Annualized Hour Burden to Respondents for the Second and Third Years
[One reporting period per year]
Component | Source of funding | Number of respondents | Responses per grantee | Total responses | Hours to complete/coordinate receipt of data reports | Total burden hours
Grantee Response Burden
Grantee Report | Part A | 56 | 1 | 56 | 1.27 | 71
| Part B | 57 | 1 | 57 | 6.00 | 342
| Part C | 357 | 1 | 357 | 0.39 | 139
| Part D | 90 | 1 | 90 | 0.67 | 60
| Part A MAI | 56 | 1 | 56 | 1.27 | 71
| Part B MAI | 30 | 1 | 30 | 10.00 | 300
| Subtotal |  | 646 |  |  | 983

Component |  | Number of respondents | Responses per provider | Total responses | Hours to develop/adjust CLD system | Total burden hours
Service Provider Response Burden
CLD Collection System |  | 583 | 1 | 583 | 92.80 | 54,102

Component |  | Number of respondents | Responses per provider | Total responses | Hours per response | Total burden hours
Provider Report |  | 2,253* | 1 | 2,253 | 2.35 | 5,295

Component | Providers' electronic data systems capability | Number of respondents | Responses per provider | Total responses | Hours to collect/report data per response | Total burden hours
Client Report (client-level data) | No | 63 | 1 | 63 | 106.25 | 6,694
| Yes | 2,049 | 1 | 2,049 | 3.75 | 7,684
| Subtotal |  | ** 2,112 |  |  | 14,378
TOTAL BURDEN, YEAR 2 | 74,758
TOTAL BURDEN, YEAR 3 | 20,656
† All providers, including direct service providers and administrative support service-only providers.
†† All direct service providers, including those outpatient/ambulatory medical care, medical case management, and/or nonmedical case management providers that will submit a Client Report in 2009 as well as other direct service providers that will submit a Client Report in 2010.
ᵃ There is no CLD Collection system adjustment in Year 3, so the total burden is less.

Written comments and recommendations concerning the proposed information collection should be sent within 30 days of this notice to the desk officer for HRSA, either by e-mail to OIRA_submission@omb.eop.gov or by fax to 202-395-6974. Please direct all correspondence to the “attention of the desk officer for HRSA.”

Dated: November 7, 2008.
Alexandra Huttinger,
Director, Division of Policy Review and Coordination.

[FR Doc. E8-27115 Filed 11-13-08; 8:45 am]

BILLING CODE 4165-15-P